DEPARTMENT OF AGRICULTURE

Forest Service

Trinity County Resource Advisory Committee

AGENCY: Forest Service, USDA Forest Service.

ACTION: Notice of Meeting.

SUMMARY: The Trinity County Resource Advisory Committee (RAC) will meet on September 23, 2002 in Weaverville, California. The purpose of the meeting is to discuss the selection of Title II projects under Public Law 106-393, H.R. 2389, the Secure Rural Schools and Community Self-Determination Act of 2000, also called the “Payments to States” Act.

DATES: The meeting will be held on September 23, 2002 from 6:30 to 8:30 p.m.

ADDRESSES: The meeting will be held at the Trinity County Office of Education, 201 Memorial Drive, Weaverville, California.

FOR FURTHER INFORMATION CONTACT: Joyce Andersen, Designated Federal Official, USDA, Shasta Trinity National Forests, P.O. Box 1190, Weaverville, CA 96093, Phone: (530) 623-1709. e-mail: jandersen@fs.fed.us.

SUPPLEMENTARY INFORMATION: The meeting will focus on selecting fuels and roads/restoration projects for Title II funding. The meeting is open to the public. Public input opportunity will be provided and individuals will have the opportunity to address the committee at that time.

Dated: August 27, 2002.
S.E. “Lou” Woltering,
Forest Supervisor.

[FR Doc. 02-22463 Filed 9-3-02; 8:45 am]

BILLING CODE 3410-11-M